DEPARTMENT OF ENERGY

Energy Information Administration

Agency Information Collection Extension

AGENCY: U.S. Energy Information Administration (EIA), U.S. Department of Energy (DOE).

ACTION: Notice.

SUMMARY: EIA has submitted an information collection request for extension as required by the Paperwork Reduction Act of 1995. The information collection requests a three-year extension of its Oil and Gas Reserves System Surveys, OMB No. 1905-0057: Extension without changes of Form EIA-64A, Annual Report of the Origin of Natural Gas Liquids Production; Revision of Form EIA-23L, Annual Report of Domestic Oil and Gas Reserves, County Level Report; and continued suspension of Form EIA-23S, Annual Survey of Domestic Oil and Gas Reserves, Summary Level Report. Form EIA-23L is the only form that EIA proposes to change. There are no proposed changes to Forms EIA-64A and EIA-23S. The proposed collection will be used to prepare electronic annual reports of U.S. proved reserves data that fulfill EIA's congressional mandate to provide accurate annual estimates of U.S. proved crude oil and natural gas reserves. The U.S. Government also uses the resulting information in EIA's reports to develop national and regional estimates of proved reserves of domestic crude oil and natural gas to facilitate national energy policy decisions.

DATES: Comments on this information collection must be received no later than July 6, 2022. If you anticipate that you will be submitting comments but find it difficult to do so within the period allowed by this notice, please advise the OMB Desk Officer of your intention to make a submission as soon as possible. The Desk Officer may be telephoned at (202) 881-8585.

ADDRESSES: Written comments and recommendations for the information collection should be sent within 30 days of publication of this notice to www.reginfo.gov/public/do/PRAMain. Find this particular information collection by selecting “Currently under 30-day Review—Open for Public Comments” or by using the search function.

The forms and instructions are available on the EIA website at:

Form EIA-23L, https://www.eia.gov/survey/#eia-23l

Form EIA-23S, https://www.eia.gov/survey/#eia-23s

Form EIA-64A, https://www.eia.gov/survey/#eia-64a

FOR FURTHER INFORMATION CONTACT: If you need additional information, contact Steven G. Grape, telephone (202) 586-1868, or by email at Steven.Grape@eia.gov.

SUPPLEMENTARY INFORMATION: This information collection request contains:

(1) OMB No. 1905-0057;

(2) Information Collection Request Title: Oil and Gas Reserves System;

(3) Type of Request: Three-year extension with changes; revision of the currently approved Form EIA-23L; extension without changes of Form EIA-64A; and continued suspension of collection of the currently approved Form EIA-23S;

(4) Purpose: In response to Public Law 95-91 Section 657, estimates of U.S. oil and gas reserves are to be reported annually. Many U.S. government agencies have an interest in proved oil and gas reserves and the quality, reliability, and usefulness of reserves estimates. Among these are the U.S. Energy Information Administration (EIA), Department of Energy; Bureau of Ocean Energy Management (BOEM), Department of Interior; Internal Revenue Service (IRS), Department of the Treasury; and the Securities and Exchange Commission (SEC). Each of these organizations has specific purposes for collecting, using, or estimating proved reserves. EIA has a congressional mandate to provide accurate annual estimates of U.S. proved crude oil, natural gas, and natural gas liquids reserves, and EIA presents annual reserves data in EIA reports to meet this requirement. The BOEM maintains estimates of proved reserves to carry out their responsibilities in leasing, collecting royalty payments, and regulating the activities of oil and gas companies on Federal lands and water. Accurate reserve estimates are important, as the BOEM is second only to the IRS in generating Federal revenue. For the IRS, proved reserves and occasionally probable reserves are an essential component of calculating taxes for companies owning or producing oil and gas. The SEC requires publicly traded petroleum companies to annually file a reserves statement as part of their 10-K filing. The basic purpose of the 10-K filing is to provide public investors with a clear and reliable financial basis to assess the relative value, as a financial asset, of a company's reserves, especially in comparison to other similar oil and gas companies. The Government also uses the resulting information to develop national and regional estimates of proved reserves of domestic crude oil and natural gas to facilitate national energy policy decisions. These estimates are essential to the development, implementation, and evaluation of energy policy and legislation. Data are used directly in EIA Web reports concerning U.S. crude oil and natural gas reserves, and are incorporated into a number of other Web reports and analyses;

(4a) Changes to Information Collection: EIA proposes to make the following changes to Form EIA-23L, Annual Report of Domestic Oil and Gas Reserves:

• Schedule A of Form EIA-23L, which collected annual proved reserves and production data for four fuel types (crude oil, associated-dissolved natural gas, non-associated natural gas, and lease condensate) on a county-level basis will be changed to collect annual proved reserves and production data for two fuel types (crude oil plus lease condensate, and total natural gas) on a state/state subdivision-level basis.

• Schedule A of Form EIA-23L, which used three reservoir type codes (C—conventional, LP—low permeability, and SH—shale) to subdivide county-level proved reserves data within Schedule A will be changed to two separate report parts: Parts 4 and 5.

○ Part 4 will list the combined total of annual proved reserves and production data on a state- and state subdivision-level basis

○ Part 5 will separately list that portion of annual proved reserves and production sourced only from shale reservoirs on a state- and state subdivision-level basis.

• A fillable spreadsheet version of the new Form EIA-23L will replace the current PDF version of Form EIA-23L and its E-file software (the Reserves Information Gathering System (RIGS).

Comments and Feedback are requested on these proposed changes to Form EIA-23L;

(5) Annual Estimated Number of Respondents: Forms EIA-23L/23S/64A: 1,100;

(6) Annual Estimated Number of Total Responses: Forms EIA-23L/23S/64A: 1,100;

(7) Annual Estimated Number of Burden Hours: 19,100 hours;

Form EIA-23L Annual Survey of Domestic Oil and Gas Reserves, State/State Subdivision report: 31 hours average per response (500 operators): 15,500 hours total.

Form EIA-23S Annual Survey of Domestic Oil and Gas Reserves, Summary Level Report: 0 hours (Currently suspended).

Form EIA-64A Annual Report of the Origin of Natural Gas Liquids Production: 6 hours (600 natural gas plant operators): 3,600 hours total.

(8) Annual Estimated Reporting and Recordkeeping Cost Burden: Forms EIA-23L/23S/64A: EIA estimates that there are no capital and start-up costs associated with this data collection. The information is maintained in the normal course of business. The cost of burden hours to the respondents is estimated to be $1,592,558 (19,100 burden hours times $83.38 per hour). Therefore, other than the cost of burden hours, EIA estimates that there are no additional costs for generating, maintaining and providing the information.

Statutory Authority: 15 U.S.C. 772(b), 42 U.S.C. 7101 et seq.

Signed in Washington, DC, on May 31, 2022.
Samson A. Adeshiyan,
Director, Office of Statistical Methods and Research, U.S. Energy Information Administration.

[FR Doc. 2022-12001 Filed 6-3-22; 8:45 am]

BILLING CODE 6450-01-P